DEPARTMENT OF THE INTERIOR

Fish and Wildlife Service

[FWS-R5-ES-2024-N048; FXES11130500000-245-FF05E00000]

Endangered Species; Receipt of Recovery Permit Applications

AGENCY: Fish and Wildlife Service, Interior.

ACTION: Notice of receipt of permit applications; request for comments.

SUMMARY: We, the U.S. Fish and Wildlife Service, have received applications for permits to conduct scientific research to promote conservation or other activities intended to enhance the propagation or survival of endangered or threatened species under the Endangered Species Act. We invite the public and local, State, Tribal, and Federal agencies to comment on these applications. Before issuing the requested permits, we will take into consideration any information that we receive during the public comment period.

DATES: We must receive any written comments on or before November 4, 2024.

ADDRESSES: Use one of the following methods to request documents or submit comments. Requests and comments should specify the applicant's name and application number (e.g., PER0001234):

• Email: permitsR5ES@fws.gov.

• U.S. Mail: Abby Goldstein, Ecological Services, U.S. Fish and Wildlife Service, 300 Westgate Center Dr. Hadley, MA 01035.

FOR FURTHER INFORMATION CONTACT: Abby Goldstein, 413-253-8212 (phone), or permitsR5ES@fws.gov (email). Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: We, the U.S. Fish and Wildlife Service, invite the public to comment on applications for permits under section 10(a)(1)(A) of the Endangered Species Act of 1973, as amended (ESA; 16 U.S.C. 1531 et seq.). The requested permits would allow the applicants to conduct activities intended to promote recovery of species that are listed as endangered under the ESA.

Background

With some exceptions, the ESA prohibits activities that constitute take of listed species, unless a Federal permit is issued that allows such activity. The ESA's definition of “take” includes such activities as pursuing, harassing, trapping, capturing, or collecting, in addition to hunting, shooting, harming, wounding, or killing.

A recovery permit issued by us under section 10(a)(1)(A) of the ESA authorizes the permittee to conduct activities with endangered or threatened species for scientific purposes that promote recovery or for enhancement of propagation or survival of the species. Our regulations implementing section 10(a)(1)(A) for these permits are found at 50 CFR 17.22 for endangered wildlife species, 50 CFR 17.32 for threatened wildlife species, 50 CFR 17.62 for endangered plant species, and 50 CFR 17.72 for threatened plant species.

Permit Applications Available for Review and Comment

We invite local, State, and Federal agencies; Tribes; and the public to comment on the applications in table 1.

Table 1—Permit Applications Received
Application No. | Applicant | Species | Location | Activity | Type of take | Permit action
01086D-4 | Virginia Department of Wildlife Resources, Marion, VA; Timothy Lane | Appalachian monkeyface (Quadrula sparsa), birdwing pearlymussel (Lemiox rimosus), cracking pearlymussel (Hemistena lata), Cumberland monkeyface (Quadrula intermedia), Cumberlandian combshell (Epioblasma brevidens), dromedary pearlymussel (Dromus dromas), fanshell (Cyprogenia stegaria), finerayed pigtoe (Fusconaia cuneolus), fluted kidneyshell (Ptychobranchus subtentus), littlewing pearlymussel (Pegias fabula), oyster mussel (Epioblasma capsaeformis), pink mucket (Lampsilis abrupta), purple bean (Villosa perpurpurea), rough pigtoe (Pleurobema plenum), rough rabbitsfoot (Quadrula cylindrica strigillata), sheepnose (Plethobasus cyphyus), shiny pigtoe (Fusconaia cor), slabside pearlymussel (Pleuronaia dolabelloides), snuffbox (Epioblasma triquetra), spectaclecase (Cumberlandia monodonta), tan riffleshell (Epioblasma florentina walkeri) | Virginia, Tennessee | Collect, transport, hold in captivity for longer than 45 days, propagate, release, research, and translocate | Capture, collect | Renew.
PER12175217 | Jacob Miller, Hurricane, WV | Clubshell (Pleurobema clava), dwarf wedgemussel (Alasmidonta heterodon), fanshell (Cyprogenia stegaria), fat pocketbook (Potamilus capax), Higgins' eye Pearlymussel (Lampsilis higginsii), James spinymussel (Parvaspina collina), longsolid (Fusconaia subrotunda), northern riffleshell (Epioblasma rangiana), orangefoot pimpleback (Plethobasus cooperianus), pink mucket (Lampsilis abrupta), purple catspaw (Epioblasma obliquata), rabbitsfoot (Quadrula cylindrica cylindrica), rayed bean (Villosa fabalis), ring pink (Obovaria retusa), rough pigtoe (Pleurobema plenum), round hickorynut (Obovaria subrotunda), sheepnose (Plethobasus cyphyus), snuffbox (Epioblasma triquetra), spectaclecase (Cumberlandia monodonta), white catspaw (Epioblasma perobliqua), white wartyback (Plethobasus cicatricosus) | Alabama, Arkansas, Connecticut, Georgia, Illinois, Indiana, Iowa, Kansas, Kentucky, Louisiana, Maryland, Michigan, Minnesota, Mississippi, Missouri, Montana, Nebraska, New Hampshire, New York, North Carolina, Ohio, Oklahoma, Pennsylvania, Tennessee, Vermont, Virginia, West Virginia, Wisconsin | Presence/absence survey | Capture | New.
PER12201376 | Monongahela National Forest, Parsons, WV; Andrew Moore | Rusty patched bumble bee (Bombus affinis) | West Virginia | Presence/absence survey | Capture | New.
PER1541732-1 | Emily Pody, New Braunfels, TX | Add: Ouachita rock pocketbook (Arcidens wheeleri), Guadalupe orb (Cyclonaias necki), Balcones spike (Fusconaia iheringi), false spike (Fusconaia mitchelli), Guadalupe fatmucket (Lampsilis bergmanni), Texas fatmucket (Lampsilis bracteata), Texas hornshell (Popenaias popeii), Texas pimpleback (Cyclonaias petrina), Texas fawnsfoot (Truncilla macrodon) | Add: Texas | Survey, collect samples, tag, salvage shells | Capture, collect | Amend.

Public Availability of Comments

Written comments we receive become part of the administrative record associated with this action. Before including your address, phone number, email address, or other personal identifying information in your comment, you should be aware that your entire comment—including your personal identifying information—may be made publicly available at any time. While you can request in your comment that we withhold your personal identifying information from public review, we cannot guarantee that we will be able to do so. Moreover, all submissions from organizations or businesses, and from individuals identifying themselves as representatives or officials of organizations or businesses, will be made available for public disclosure in their entirety.

Next Steps

If we decide to issue permits to the applicants listed in this notice, we will publish a notice in the Federal Register.

Authority

Section 10(c) of the Endangered Species Act of 1973, as amended (16 U.S.C. 1531 et seq.).

Martin Miller,
Manager, Division of Endangered Species, Ecological Services, Northeast Region.

[FR Doc. 2024-22950 Filed 10-3-24; 8:45 am]

BILLING CODE 4333-15-P